DEPARTMENT OF LABOR

Employment and Training Administration

Agency Information Collection Activities; Comment Request; YouthBuild (YB) Reporting System

ACTION: Notice of information collection; request for comment.

SUMMARY: The Department of Labor (DOL), Employment and Training Administration is soliciting comments concerning a proposed revision for the authority to conduct the information collection request (ICR) titled, “YouthBuild Reporting System.” This comment request is part of continuing Departmental efforts to reduce paperwork and respondent burden in accordance with the Paperwork Reduction Act of 1995 (PRA).

DATES: Consideration will be given to all written comments received by March 27, 2018.

ADDRESSES: A copy of this ICR with applicable supporting documentation, including a description of the likely respondents, proposed frequency of response, and estimated total burden may be obtained free by contacting Jenn Smith by telephone at (202) 693-3597 (this is not a toll-free number), TTY at 1-877-889-5627, or by email at smith.jenn@dol.gov.

Submit written comments about, or requests for a copy of, this ICR by mail or courier to the U.S. Department of Labor, Division of Youth Services, 200 Constitution Avenue NW, Room N4508, Washington, DC 20210; by email: smith.jenn@dol.gov; or by Fax: 202-693-3113.

FOR FURTHER INFORMATION CONTACT: Jenn Smith by telephone at (202) 693-3597 (this is not a toll-free number) or by email at smith.jenn@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor, Employment and Training Administration (ETA) proposes revising the reporting and recordkeeping requirements of the YouthBuild (YB) program. This reporting structure features standardized data collection for program participants through quarterly Management Information System (MIS) performance reports and Wok Site Description and Housing Census report formats. All data collection and reporting is done by YouthBuild grantees.

The quarterly performance report (ETA-9136) includes aggregate and participant-level information on demographic characteristics, types of services received, placements, outcomes, and follow-up status. Specifically, these reports collect data on individuals who receive education, occupational skill training, leadership development services, and other services essential to preparing at-risk youth for in-demand occupations through YouthBuild programs. There are no changes proposed for ETA-9136 in this information collection request package. The Work Site Description and Housing Census (ETA-9143) requests information on the proposed work sites for low-income or homeless individual or families on which YouthBuild participants will be trained and participate in construction skills activities. This form also requests annual information on the number of houses or apartments that were built or renovated each year and allows ETA to demonstrate on an annual basis the increase in affordable housing units supported by YouthBuild.

The accuracy, reliability, and comparability of program reports submitted by grantees using Federal funds are fundamental elements of good public administration and are necessary tools for maintaining and demonstrating system integrity. The use of a standard set of data elements, definitions, and specifications at all levels of the workforce system helps improve the quality of performance information that is received by ETA.

The Workforce Innovation and Opportunity Act (29 U.S.C. 3101) authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0464.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: REVISION.

Title of Collection: YouthBuild (YB) Reporting System.

Form: ETA-9136, ETA-9138, ETA-9143 Part A, ETA-9143 Part B, ETA-9143 Part C.

OMB Control Number: OMB 1205-0464.

Affected Public: Grantees.

Estimated Number of Respondents: 440.

Frequency: As necessary but at a minimum, quarterly.

Total Estimated Annual Responses: 8,330.

Estimated Average Time per Response: 1.5 hours.

Estimated Total Annual Burden Hours: 24,565 hours.

Total Estimated Annual Other Cost Burden: $162,487.85.

Authority: 44 U.S.C. 3506(c)(2)(A).

Rosemary Lahasky,
Deputy Assistant Secretary for Employment and Training, Labor.

[FR Doc. 2018-01333 Filed 1-25-18; 8:45 am]

BILLING CODE 4510-FT-P